DEPARTMENT OF ENERGY

Office of Electricity Delivery and Energy Reliability

Public Scoping Meeting on Study of Energy Rights-of-Way on Tribal Lands

AGENCY: Office of Electricity Delivery and Energy Reliability, Department of Energy.

ACTION: Notice of Public Scoping Meeting and Request for Public Comment.

SUMMARY: This notice advises the public that the Department of Energy (“DOE”) and Department of the Interior (“DOI”) (collectively referred to as the “Departments”) intend to jointly hold a three-day public scoping meeting in connection with the Department's ongoing study of energy rights-of-way on tribal land pursuant to section 1813 of the Energy Policy Act of 2005. Through these meetings, the Departments invite the public to provide additional oral or written comments about how to proceed with the implementation of section 1813.

DATES: A three-day meeting will be held April 18, 19 and 20, 2006, at the Hyatt Regency Denver, 650 15th Street, Denver Colorado, 80202; Tel. (303) 486-4402. We have reserved a block of rooms at the hotel for the meeting on a first-come first-served basis. Please inform the hotel that you are attending the “Energy Policy Act—Section 1813 Meeting.” If you are representing a 638 Tribe, you can request the government rate, which we have obtained for some of the rooms in the reserved block. All written comments should be submitted to the contacts below before May 1, 2006.

ADDRESSES: Please send written comments by regular mail to Attention: Section 1813 ROW Study, Office of Indian Energy and Economic Development, 1849 C St., NW., Mail Stop 2749-MIB, Washington, DC, 20240 or by e-mail to IEED@bia.edu.

FOR FURTHER INFORMATION CONTACT: Mr. Darryl Francois, Office of Indian Energy and Economic Development, 1849 C St., NW., Mail Stop 2749-MIB, Washington, DC, 20240. He can also be reached by telephone at (202) 219-0740 or by electronic mail at darryl.francois@mms.gov. Please contact Mr. David Meyer via mail at, Department of Energy, Office of Electricity Delivery and Energy Reliability, 1000 Independence Ave., SW., Washington, DC 20585, via phone at (202) 586-3118, or via electronic mail at david.meyer@hq.doe.gov.

SUPPLEMENTARY INFORMATION: Section 1813 of Energy Policy Act of 2005 requires the Secretaries of the Departments of the Interior and Energy to jointly conduct a study of energy rights-of-way on tribal land. Specifically, section 1813 requires the Departments submit to Congress a report on the findings of the study, including:

(1) An analysis of historic rates of compensation paid for energy rights-of-way on tribal land;

(2) recommendations for appropriate standards and procedures for determining fair and appropriate compensation to Indian tribes for grants, expansions, and renewals for energy rights-of-way on tribal land;

(3) an assessment of the tribal self-determination and sovereignty interests implicated by applications for the grant, expansion, or renewal of energy rights-of-way on tribal land; and

(4) an analysis of relevant national energy transportation policies relating to grants, expansions, and renewals of energy rights-of-way on tribal land.

At the April meetings, the Departments seek the public's input on the types of information related to the historic rates of compensation paid for energy rights-of-way on tribal land that are important for the Departments to consider in the study. While the Departments are making good progress in this regard, we continue to seek factual information from the public to support specific case studies that members of the public regard as relevant to one or more elements of the study.

The overall purpose of the April meeting is to advance the dialogue that took place at the scoping meetings in Denver, March 7-8, 2006, and provide an additional opportunity for the public to supply oral and/or written comments about each of the four elements of the study. The April meetings will also provide an opportunity for the Departments to present preliminary progress made with respect to each of the study elements.

Issued in Washington, DC, on March 27, 2006.
Kevin M. Kolevar,
Director, Office of Electricity Delivery and Energy Reliability, U.S. Department of Energy.

[FR Doc. E6-4711 Filed 3-30-06; 8:45 am]

BILLING CODE 6450-01-P